NUCLEAR REGULATORY COMMISSION

Draft Regulatory Guide: Issuance, Availability

AGENCY: Nuclear Regulatory Commission.

ACTION: Notice of Issuance and Availability of Draft Regulatory Guide, DG-1186.

FOR FURTHER INFORMATION CONTACT: Steve Garry, U.S. Nuclear Regulatory Commission, Washington, DC 20555-0001, telephone: (301) 415-2766 or e-mail to Steve.Garry@nrc.gov.

SUPPLEMENTARY INFORMATION:

I. Introduction

The U.S. Nuclear Regulatory Commission (NRC) has issued for public comment a draft regulatory guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Measuring, Evaluating, and Reporting Radioactive Materials in Liquid and Gaseous Effluents and Solid Wastes,” is temporarily identified by its task number, DG-1186, which should be mentioned in all related correspondence.

DG-1186, which is proposed Revision 2 of Regulatory Guide 1.21, describes a method that the staff of the NRC considers acceptable for use in measuring, evaluating, and reporting on radioactivity in effluent discharges and in solid radioactive waste shipments. The regulatory guide also provides guidance on determining and reporting the public dose from nuclear power plant operations.

The regulatory basis for the radiological effluent control program is established in Title 10, Section 20.1501, “Surveys,” of the Code of Federal Regulations (10 CFR 20.1501); 10 CFR 50.36a, “Technical Specifications on Effluents from Nuclear Power Reactors;” and 10 CFR 20.1302, “Compliance with Dose Limits for Individual Members of the Public.” The 10 CFR 20.1501 regulations require that surveys be made that are reasonable under the circumstances to evaluate the magnitude and extent of radiation levels, concentrations or quantities of radioactive material, and the potential radiological hazards. The regulations at 10 CFR 50.36a require plant technical specifications with operating procedures for the control of effluents and the reporting of the quantity of each of the principal radionuclides released to unrestricted areas in liquid and gaseous effluents and other information used to estimate the maximum potential annual radiation doses to the public from effluent releases. In 10 CFR 20.1302, the NRC establishes requirements for surveys in the unrestricted and controlled areas and for radioactive materials in effluents released to unrestricted and controlled areas to demonstrate compliance with the dose limits for individual members of the public. This regulatory guide describes methods for implementing these requirements.

II. Further Information

The NRC staff is soliciting comments on DG-1186. Comments may be accompanied by relevant information or supporting data, and should mention DG-1186 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: nrcrep.resource@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-1186 may be directed to Steve Garry at (301) 415-2766 or e-mail to Steve.Garry@nrc.gov.

Comments would be most helpful if received by December 30, 2008. Comments received after that date will be considered if it is practical to do so, but the NRC is able to ensure consideration only for comments received on or before this date. Although a time limit is given, comments and suggestions in connection with items for inclusion in guides currently being developed or improvements in all published guides are encouraged at any time.

Electronic copies of DG-1186 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080660617.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 28 day of October, 2008.
For the Nuclear Regulatory Commission.
Andrea D. Valentin,
Chief, Regulatory Guide Development Branch, Division of Engineering, Office of Nuclear Regulatory Research.

[FR Doc. E8-26217 Filed 11-3-08; 8:45 am]

BILLING CODE 7590-01-P